NUCLEAR REGULATORY COMMISSION

[Docket No. 030-16033]

Notice of Availability of Environmental Assessment and Finding of No Significant Impact for License Amendment for Seiko Corporation of America's Facility in Mt. Olive, NJ

AGENCY: Nuclear Regulatory Commission.

ACTION: Notice of availability.

FOR FURTHER INFORMATION CONTACT: Donna M. Janda, Nuclear Materials Safety Branch 2, Division of Nuclear Materials Safety, Region I, 475 Allendale Road, King of Prussia, Pennsylvania, 19406, telephone (610) 337-5371, fax (610) 337-5269; or by E-mail: dmj@nrc.gov.

SUPPLEMENTARY INFORMATION:

I. Introduction

The Nuclear Regulatory Commission (NRC) is issuing a license amendment to Seiko Corporation of America (Seiko) for Materials License No. 29-19080-01, to authorize release of its facility in Mt. Olive, New Jersey for unrestricted use. NRC has prepared an Environmental Assessment (EA) in support of this action in accordance with the requirements of 10 CFR Part 51. Based on the EA, the NRC has concluded that a Finding of No Significant Impact (FONSI) is appropriate. The amendment will be issued following the publication of this Notice.

II. EA Summary

The purpose of the action is to authorize the release of the licensee's Mt. Olive, New Jersey facility for unrestricted use. Seiko was authorized by NRC from 1985 for possession and storage of timepieces, hands, and dials containing radioactive material at the site prior to distribution. On June 9, 2004, Seiko requested that NRC release the facility for unrestricted use. Seiko has conducted surveys of the facility and provided information to the NRC to demonstrate that the site meets the license termination criteria in Subpart E of 10 CFR Part 20 for unrestricted release. Seiko will continue licensed activities at another location.

The NRC staff has prepared an EA in support of the license amendment. The facility was remediated and surveyed prior to the licensee requesting the license amendment. Therefore, the staff considered the impact of the residual radioactivity at the facility and concluded that since the residual radioactivity meets the requirements in Subpart E of 10 CFR Part 20, a Finding of No Significant Impact is appropriate.

III. Finding of No Significant Impact

The staff has prepared the EA (summarized above) in support of the license amendment to release the facility for unrestricted use. The NRC staff has evaluated Seiko's request and the results of the surveys and has concluded that the completed action complies with the criteria in Subpart E of 10 CFR Part 20. The staff has found that the environmental impacts from the action are bounded by the impacts evaluated by NUREG-1496, Volumes 1-3, “Generic Environmental Impact Statement in Support of Rulemaking on Radiological Criteria for License Termination of NRC-Licensed Facilities” (ML042310492, ML042320379, and ML042330385). On the basis of the EA, the NRC has concluded that the environmental impacts from the action are expected to be insignificant and has determined not to prepare an environmental impact statement for the action.

IV. Further Information

Documents related to this action, including the application and supporting documentation, are available electronically at NRC's Electronic Reading Room at http://www.nrc.gov/reading-rm/adams.html. From this site, you can access the NRC's Agencywide Document Access and Management System (ADAMS), which provides text and image files of NRC's public documents. The ADAMS accession numbers for the documents related to this Notice are: The Environmental Assessment (ML042520508), Letter dated June 9, 2004 requesting amendment (ML041610364), Letter dated July 8, 2004 providing additional information (ML042030186), and Letter from NJDEP dated July 29, 2004 (ML042290012). Persons who do not have access to ADAMS or who encounter problems in accessing the documents located in ADAMS, should contact the NRC PDR Reference staff by telephone at (800) 397-4209 or (301) 415-4737, or by e-mail to pdr@nrc.gov.

These documents may be viewed electronically at the NRC Public Document Room (PDR), O 1 F21, One White Flint North, 11555 Rockville Pike, Rockville, MD, 20852. The PDR reproduction contractor will copy documents for a fee. The PDR is open from 7:45 a.m. to 4:15 p.m., Monday through Friday, except on Federal holidays.

Dated in King of Prussia, Pennsylvania this 14th day of October, 2004.
For the Nuclear Regulatory Commission.
John D. Kinneman,
Chief, Nuclear Materials Safety Branch 2, Division of Nuclear Materials Safety Region I.

[FR Doc. 04-23562 Filed 10-20-04; 8:45 am]

BILLING CODE 7590-01-P